NATIONAL SCIENCE FOUNDATION

Proposal Review Panel for Materials Research; Notice of Meeting

In accordance with the Federal Advisory Committee Act (Pub. L. 92-463 as amended), the National Science Foundation announces the following meeting:

Name: Site visit review of the Materials Research Science and Engineering Center (MRSEC) at the University of Colorado by the Division of Materials Research (DMR) #1203.

Dates & Times: March 12, 2012; 7:15 a.m.-8:30 p.m., March 13, 2012; 7:15 a.m.-3 p.m.

Place: University of Colorado, Boulder, CO.

Type of Meeting: Part open.

Contact Person: Dr. Mary Galvin-Donoghue, Program Director, Materials Research Science and Engineering Centers Program, Division of Materials Research, Room 1065, National Science Foundation, 4201 Wilson Boulevard Arlington, VA 22230, Telephone (703) 292-8562.

Purpose of Meeting: To provide advice and recommendations concerning further support of the MRSEC at the University of Colorado.

Agenda: Monday, March 12, 2012

7:15 a.m.-4:30 p.m. Open—Review of the MRSEC

4:30 p.m.-6:20 p.m. Closed—Executive Session

6:20 p.m.-8:30 p.m. Open—Dinner

Tuesday, March 13, 2012

7:15 a.m.-3:30 p.m. Closed—Executive Session, Draft and Review Report

Reason for Closing: The work being reviewed may include information of a proprietary or confidential nature, including technical information; financial data, such as salaries and personal information concerning individuals associated with the MRSEC. These matters are exempt under 5 U.S.C. 552 b(c), (4) and (6) of the Government in the Sunshine Act.

Dated: February 6, 2012.
Susanne Bolton,
Committee Management Officer.

[FR Doc. 2012-2978 Filed 2-8-12; 8:45 am]

BILLING CODE 7555-01-P